DEPARTMENT OF HEALTH AND HUMAN SERVICES

Administration for Children and Families

Submission for OMB Review; National Human Trafficking Training and Technical Assistance Center (NHTTAC) Evaluation Package (OMB #0970-0519)

AGENCY: Office on Trafficking in Persons; Administration for Children and Families; Department of Health and Human Services.

ACTION: Request for public comment.

SUMMARY: The Office on Trafficking in Persons (OTIP), Administration for Children and Families (ACF), U.S. Department of Health and Human Services (HHS), is requesting to continue data collection with an increased number of respondents to the previously approved information collection, National Human Trafficking Training and Technical Assistance Center (NHTTAC) Evaluation Package (OMB #0970-0519, expiration 10/31/2021). This request was originally approved under expedited review and increased the estimated burden hours from 689 hours to 9,497 hours.

In addition, the previously approved Stop, Observe, Ask, and Respond to human trafficking (SOAR) Online Participant Feedback Form was restructured into a long and short form to reduce burden for information collected on SOAR Online training participants outside of the NHTTAC learning management system. There are no changes requested to the items on any forms.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research and Evaluation, 330 C Street SW, Washington, DC 20201, Attn: ACF Reports Clearance Officer. All requests, emailed or written, should be identified by the title of the information collection.

SUPPLEMENTARY INFORMATION:

Description: These changes are requested due to the passage of the Stop, Observe, Ask, and Respond to Health and Wellness Act of 2018 (SOAR to Health and Wellness Act of 2018) (Pub. L. 115-398), which expands the SOAR to Health and Wellness Training Program. To meet the provisions of the SOAR to Health and Wellness Act of 2018, OTIP's NHTTAC had to expand the administration of SOAR nationwide.

The NHTTAC delivers training and technical assistance (T/TA) to inform and deliver a public health response to trafficking. In applying a public health approach, NHTTAC holistically builds the capacity of communities to identify and respond to the complex needs of all individuals who have been trafficked, and addresses the root causes that put individuals, families, and communities at risk of trafficking. This will ultimately help improve the availability and delivery of coordinated and trauma-informed services before, during, and after an individual's trafficking exploitation, regardless of their age, gender, nationality, sexual orientation, or type of exploitation. NHTTAC hosts a variety of services, programs, and facilitated sessions to improve service provision to individuals who have been trafficked, or who are at risk of trafficking, including the Human Trafficking Leadership Academy (HTLA); the Survivor Fellowship Program; the NHTTAC Call Center; both short-term and specialized T/TA requests (requests that take less than 3 hours or 3 or more hours to fulfill, respectively); OTIP-funded grantees; and information through NHTTAC's website, resources, and materials about trafficking.

Respondents: Individuals and organizations such as NHTTAC consultants, T/TA participants, HTLA program participants, Survivor fellows, OTIP grantees, visitors to the NHTTAC website, NHTTAC-supported conference and meeting attendees, members of the National Advisory Council, and scholarship applicants.

Annual Burden Estimates

The following instruments have an increased number of respondents. The number of respondents for all other previously approved instruments remains the same. The increase in respondents increases the overall burden under OMB #0970-0519 from 689 hours to 9,497 hours. See https://www.reginfo.gov/public/do/PRAViewICR?ref_nbr=201910-0970-012 for all instruments and related burden under OMB #0970-0519.

Instrument | Original estimate— number of respondents | Updated estimate— number of respondents | Number of responses per respondent | Average burden hours per response | Updated annual burden hours
HTLA Fellowship Pre-Program Feedback | 24 | 36 | 1 | 0.25 | 9
HTLA Fellowship Post-Program Feedback | 24 | 36 | 1 | 0.25 | 9
OTIP Grantee Feedback Form | 50 | 100 | 1 | 0.167 | 17
Short-Term T/TA Feedback Form | 30 | 50 | 1 | 0.167 | 8
Specialized T/TA Feedback Form | 50 | 100 | 1 | 0.25 | 25
Focus Group Demographic Survey | 25 | 50 | 1 | 0.033 | 2
Focus Group Guide | 25 | 50 | 1 | 0.75 | 38
Follow-up Feedback Form | 300 | 500 | 1 | 0.133 | 67
Interview Guide | 25 | 65 | 1 | 0.75 | 49
Pilot Feedback Form | 25 | 50 | 1 | 0.15 | 8
SOAR Blended Learning Participant Form | 30 | 130 | 1 | 0.15 | 20
SOAR Online Participant Feedback Long Form | 1,500 | 5,300 | 1 | 0.1 | 530
SOAR Online Participant Feedback Short Form |  | 1,000,000 | 1 | 0.0083 | 8,300
SOAR Organizational Feedback Form | 20 | 40 | 1 | 0.133 | 5

Authority: 22 U.S.C. 7104 and 22 U.S.C. 7105(c)(4).

Mary B. Jones,
ACF/OPRE Certifying Officer.

[FR Doc. 2020-01608 Filed 1-29-20; 8:45 am]

BILLING CODE 4184-47-P